POSTAL SERVICE

Sunshine Act Meetings

TIME AND DATE: Tuesday, June 11, 2024, at 11:00 a.m.

PLACE: Washington, DC, at U.S. Postal Service Headquarters, 475 L'Enfant Plaza, SW.

STATUS: Tuesday, June 11, 2024, at 11:00 a.m.—Closed.

MATTERS TO BE CONSIDERED:

Meeting of the Board of Governors

Tuesday, June 11, 2024, at 11:00 a.m. (Closed)

1. Strategic Matters

2. Administrative Matters

GENERAL COUNSEL CERTIFICATION: The General Counsel of the United States Postal Service has certified that the meeting may be closed under the Government in the Sunshine Act.

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2024-11191 Filed 5-17-24; 11:15 am]

BILLING CODE 7710-12-P